DEPARTMENT OF THE TREASURY

Submission for OMB Review; Comment Request

AGENCY: Department of the Treasury.

ACTION: Notice.

SUMMARY: The Department of the Treasury will submit the following information collection requests to the Office of Management and Budget (OMB) for review and clearance in accordance with the Paperwork Reduction Act of 1995, Public Law 104-13, on or after the date of publication of this notice.

DATES: Comments should be received on or before January 5, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION:

Internal Revenue Service (IRS)

OMB Control Number: 1545-0732.

Type of Review: Extension without change of a currently approved collection.

Title: Credit for Increasing Research Activity (TD 8251).

Abstract: This regulation provides rules for the credit for increasing research activities. Internal Revenue Code section 41(f) provides that commonly controlled groups of taxpayers shall compute the credit as if they are single taxpayer. The credit allowed to a member of the group is a portion of the group's credit. Section 1.41-8(d) of the regulation permits a corporation that is a member of more than one group to designate which controlled group they will be aggregated with the purposes of Code section 41(f).

Affected Public: Businesses or other for-profits.

Estimated Total Annual Burden Hours: 63.

OMB Control Number: 1545-0232.

Type of Review: Extension without change of a currently approved collection.

Title: Information Return of Nontaxable Energy Grants or Subsidized Energy Financing.

Form: 6497.

Abstract: Section 6050D of the Internal Revenue Code requires an information return to be made by any person who administers a Federal, state, or local program providing nontaxable grants or subsidized energy financing. Form 6497 is used for making the information return. The IRS uses the information from the form to ensure that recipients have not claimed tax credits or other benefits with respect to the grants or subsidized financing.

Affected Public: Businesses or other for-profits.

Estimated Total Annual Burden Hours: 810.

OMB Control Number: 1545-1070.

Type of Review: Extension without change of a currently approved collection.

Title: Effectively connected income and the branch profits tax.

Abstract: The regulations explain how to comply with section 884, which imposes a tax on the earnings of a foreign corporation's branch that are removed from the branch and which subjects interest paid by the branch, and certain interest deducted by the foreign corporation to tax.

Affected Public: Businesses or other for-profits.

Estimated Total Annual Burden Hours: 12,694.

OMB Control Number: 1545-0685.

Type of Review: Extension without change of a currently approved collection.

Title: Export Exemption Certificate.

Form: 1363.

Abstract: IRC section 4272(b)(2) excepts exported property from the excise tax on transportation of property. Regulation section 49.4271-1(d)(2) authorizes the filing of Form 1363 by the shipper to request exemption for a shipment, or a series of shipments. The form is filed with the carrier. It is used by IRS as proof of tax exempt status of each shipment.

Affected Public: Businesses or other for-profits.

Estimated Total Annual Burden Hours: 425,000.

Dated: December 1, 2016.
Bob Faber,
Acting Treasury PRA Clearance Officer.

[FR Doc. 2016-29198 Filed 12-5-16; 8:45 am]

BILLING CODE 4830-01-P